FEDERAL COMMUNICATIONS COMMISSION

47 CFR Part 1

[WT Docket No. 19-38; FCC 22-53; FR ID 201127]

Partitioning, Disaggregation, and Leasing of Spectrum; Correction

AGENCY: Federal Communications Commission.

ACTION: Final rule; correction.

SUMMARY: The Federal Communications Commission is correcting a final rule that appeared in the Federal Register on September 20, 2022. The document modified partitioning, disaggregation, and leasing rules to provide specific incentives for small carriers and Tribal Nations, and entities in rural areas, to voluntarily participate in the Enhanced Competition Incentive Program (ECIP). The ECIP proceeding is in response to Congressional direction in the Making Opportunities for Broadband Investment and Limiting Excessive and Needless Obstacles to Wireless Act (MOBILE NOW Act) to consider steps to increase the diversity of spectrum access and the availability of advanced telecommunications services in rural areas. The ECIP will promote greater competition in the provision of wireless services, facilitate increased availability of advanced wireless services in rural areas, facilitate new opportunities for small carriers and Tribal Nations to increase access to spectrum, and bring more advanced wireless service including 5G to underserved communities.

DATES: This correction is effective February 15, 2024.

FOR FURTHER INFORMATION CONTACT: Stephanie Asous, Stephanie.Asous@fcc.gov, Wireless Telecommunications Bureau, Mobility Division, (202) 418-2155.

SUPPLEMENTARY INFORMATION: The general effective date for the final rule published September 20, 2022, at 87 FR 57403, which included the addition of 47 CFR 1.60001 through 1.60007, was October 20, 2022. Sections 1.60001 through 1.60007 were delayed indefinitely, and the Commission stated in that rule it would publish a document in the Federal Register announcing the effective date. The document announcing the effective date is published elsewhere in this issue of the Federal Register.

The document makes corrections to §§ 1.60001, 1.60002, 1.60006, and 1.60007.

Correction

In FR Doc. 2022-17520 appearing on page 57403 in the Federal Register of Tuesday, September 20, 2022, the following corrections are made:

§ 1.60001 [Corrected]

1. On page 57417, in the third column, in § 1.60001, in paragraph (b), “pursuant to § 1.60002 or the rural-focused transaction prong pursuant to § 1.60003” is corrected to read “pursuant to § 1.60003 or the rural-focused transaction prong pursuant to § 1.60004”.

§ 1.60002 [Corrected]

2. On page 57418, in the first column, in § 1.60002, in paragraph (e), “§ 1.60005(e);” is corrected to read “§ 1.60005;”.

§ 1.60006 [Corrected]

3. On page 57420, in the third column, in § 1.60006, in paragraph (g), “§ 20.30 of this chapter” is corrected to read “§ 1.9003”.

§ 1.60007 [Corrected]

4. On page 57420, in the third column, in § 1.60007:

a. In paragraph (a)(1), “§ 1.60006(e)” is corrected to read “§ 1.60006(f)”;

b. In § 1.60007, in paragraph (a)(2) “§ 1.60006(a) or (c),” is corrected to read “§ 1.60006(b) or (d)”;

c. In paragraph (a)(3), “§ 1.60006(b) or (c)” is corrected to read “§ 1.60006(c) or (d)”;

d. In paragraph (b)(1), § 1.60006(e)” is corrected to read “§ 1.60006(f)”;

e. In paragraph (b)(2), “§ 1.60006(a) or (c)” is corrected to read “§ 1.60006(b) or (d)”; and

f. In paragraph (b)(3), “§ 1.60006(b) or (c)” is corrected to read “§ 1.60006(c) or (d)”.

Federal Communications Commission.
Marlene Dortch,
Secretary.

[FR Doc. 2024-02863 Filed 2-14-24; 8:45 am]

BILLING CODE 6712-01-P